GENERAL SERVICES ADMINISTRATION

Information Quality Guidelines

AGENCY: Office of the Chief Information Officer, General Services Administration.

ACTION: Notice of availability.

SUMMARY: Section 515 of the Treasury and General Government Appropriations Act for Fiscal Year 2001 (Pub. L. 106-554) requires all Federal agencies covered by the Paperwork Reduction Act (44 U.S.C. Chapter 35), including the General Services Administration, to issue guidelines by October 1, 2002, for the purpose of “ensuring and maximizing the quality, objectivity, utility, and integrity of information (including statistical information) disseminated by the agency.” (Pub. L. 106-554). The Agency guidelines must be consistent with governmentwide guidelines published by the Office of Management and Budget (66 FR 49718, September 28, 2001; 67 FR 8452, February 22, 2002) and must include “administrative mechanisms allowing affected persons to seek and obtain correction of information” that the Agency maintains and disseminates, and that does not comply with the OMB or agency guidelines.

This Notice of Availability informs the public that the General Services Administration has written draft guidelines, which are available for public information and comment as described in this notice.

DATES: We must receive your comments on or before June 30, 2002.

ADDRESSES: Address all comments about the guidelines to the Office of the Chief Information Officer, General Services Administration, 1800 F St., NW., room 3245, Washington, DC 20405.

If you prefer to send your comments through the Internet, use the following e-mail address: section515@gsa.gov.

You must include the term “Section 515 Information Quality Guidelines” in the subject line of your electronic message.

FOR FURTHER INFORMATION CONTACT: For a Copy of the Guidelines and Further Information: The guidelines are available through the Internet at the following site: http://www.gsa.gov/Portal/content/offerings_ content.jsp?contentOID= 121870&contentType=1004&P=1&S=1. Alternatively, you may contact Jane Morgan, General Services Administration, 1800 F St., NW., room 2213, Washington, DC 20405. Telephone: (202) 501-2907. If you use a telecommunications device for the deaf (TDD), you may call the Federal Information Relay Service (FIRS) at 1-800-877-8339. Individuals with disabilities may obtain this document in an alternative format (e.g., Braille, large print, audiotape, or computer diskette) on request to the contact person listed under For a Copy of the Guidelines and Further Information.

SUPPLEMENTARY INFORMATION:

Invitation to Comment

We invite you to submit comments regarding the guidelines. During and after the comment period, you may view all public comments about these guidelines at the following site: http://www.gsa.gov/Portal/content/ offerings_content.jsp?contentOID= 121870&contentType=1004&P=1&S=1.

Assistance to Individuals With Disabilities in Reviewing the Rulemaking Record

On request, we will supply an appropriate aid, such as a reader or print magnifier, to an individual with a disability who needs assistance to review the comments or other documents in the public record for these guidelines. If you want to schedule an appointment for this type of aid, please contact the person listed under For a Copy of the Guidelines and Further Information.

Electronic Access to This Document

You may view this document in text form at the following site: http://www.gsa.gov/Portal/content/ offerings_content.jsp?contentOID= 121870&contentType=1004&P=1&S=1.

Note: The official version of this document is the document published in the Federal Register. Free Internet access to the official edition of the Federal Register and the Code of Federal Regulations is available on GPO Access at: http://www.access.gpo.gov/nara/index.html.

L. Diane Savoy,
Director, Office of Policy and Plans.

[FR Doc. 02-13757 Filed 5-31-02; 8:45 am]

BILLING CODE 6820-34-M